DEPARTMENT OF COMMERCE

National Oceanic and Atmospheric Administration

[RTID 0648-XC128]

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: NMFS is reopening the comment period for an Exempted Fishing Permit application. The Exempted Fishing Permit would allow commercial fishing vessels to conduct commercial fishing activities that the regulations would otherwise restrict to expand trials of on-demand fishing gear that uses one or no surface buoys. Regulations under the Magnuson-Stevens Fishery Conservation and Management Act and the Atlantic Coastal Fisheries Cooperative Management Act require publication of this notification to provide interested parties the opportunity to comment on applications for proposed Exempted Fishing Permits.

DATES: Comments must be received on or before July 5, 2022.

ADDRESSES: You may submit written comments by the following method:

• Email: nmfs.gar.efp@noaa.gov. Include in the subject line “NEFSC On-Demand Gear EFP.”

• Mail: Michael Pentony, Regional Administrator, NMFS, Greater Atlantic Regional Fisheries Office, 55 Great Republic Drive, Gloucester, MA 01930. Mark the outside of the envelope “Comments on NEFSC On-Demand Gear EFP.”

FOR FURTHER INFORMATION CONTACT: Laura Deighan, Fishery Management Specialist, Laura.Deighan@noaa.gov, (978) 281-9184.

SUPPLEMENTARY INFORMATION: On June 1, 2022, we published a notice soliciting public comment on the EFP application (87 FR 33132). The public comment period was open through June 16, 2022. Given the scope of the proposed project, as well as requests to provide additional information and opportunity to comment, we are reopening the comment period for five days. A full description of the requested exemptions and research plan are available in the original notice and are not repeated here.

This EFP would exempt the participating vessels from the gear marking requirements at 50 CFR 697.21(b)(2) to allow the use of trawls of more than three traps that have one or no surface markers. This EFP would allow up to 100 vessels to trial on-demand lobster gear designed to reduce entanglement risk to protected species, mainly North Atlantic right whales, on up to 10 trawls each. It would allow up to 30 of those vessels to trial gear with no static vertical lines in Atlantic Large Whale Take Reduction Plan (ALWTRP) Restricted Areas and up to 25 to trial grappling for gear with no vertical lines.

Authority: 16 U.S.C. 1801 et seq.

Dated: June 22, 2022.
Jennifer M. Wallace,
Acting Director, Office of Sustainable Fisheries, National Marine Fisheries Service.

[FR Doc. 2022-13684 Filed 6-27-22; 8:45 am]

BILLING CODE 3510-22-P